DEPARTMENT OF VETERANS AFFAIRS

Vocational Rehabilitation & Employment Task Force; Notice of Meeting

The Department of Veterans Affairs (VA) gives notice under Public Law 92-463 (Federal Advisory Committee Act) that a meeting of the VA Vocational Rehabilitation & Employment (VR&E) Task Force will be held on Wednesday, October 22, 2003, in Room 530 at the VA Central Office, 810 Vermont Avenue, NW, Washington, DC 20420. The meeting will be open to the public.

The purpose of the Task Force is to conduct an independent review of the VR&E program within the Veterans Benefits Administration (VBA). The Task Force will provide recommendations to the Secretary of Veterans Affairs on improving the Department's ability to provide comprehensive services and assistance to veterans with service-connected disabilities and employment handicaps in becoming employable, and obtaining and maintaining suitable employment. The Task Force will also assess independent living services provided by VBA.

The October 22, 2003, meeting will convene at 8 a.m. and adjourn after the Task Force has completed discussion on potential recommendations designed to improve VA's ability to deliver employment and vocational rehabilitation services. That discussion is expected to focus on issues that fall generally within the Task Force's areas of emphasis—internal management, systems integration, employment, and independent living services.

No time will be allocated for receiving oral presentations from the public. Members of the public may submit written comments for review by the Committee to: Mr. John O'Hara, Designated Federal Officer, Vocational Rehabilitation & Employment Task Force, c/o Office of Policy, Planning, and Preparedness (008B), Department of Veterans Affairs, 810 Vermont Avenue, NW, Washington, DC 20420. Mr. O'Hara's email is john.o'hara@mail.va.gov and his fax number is (202) 273-5991.

Dated: October 3, 2003.
By Direction of the Secretary.
Phil Riggin,
Committee Management Officer.

[FR Doc. 03-25840 Filed 10-10ndash;03; 8:45 am]

BILLING CODE 8320-01-M